POSTAL SERVICE

Sunshine Act Meeting Notice: Board of Governors

Dates and Times: Wednesday, March 21, 2012, at 10 a.m.

Place: Washington, DC, at U.S. Postal Service Headquarters, 475 L'Enfant Plaza SW., in the Benjamin Franklin Room.

Status: Closed.

Matters To Be Considered

Wednesday, March 21, at 10 a.m. (Closed)

1. Strategic Issues.

2. Financial Matters.

3. Pricing.

4. Personnel Matters and Compensation Issues.

5. Governors' Executive Session—Discussion of prior agenda items and Board Governance.

Contact Person for More Information: Julie S. Moore, Secretary of the Board, U.S. Postal Service, 475 L'Enfant Plaza SW., Washington, DC 20260-1000. Telephone (202) 268-4800.

Julie S. Moore,
Secretary.

[FR Doc. 2012-5327 Filed 3-1-12; 8:45 am]

BILLING CODE 7710-10-P